DEPARTMENT OF ENERGY

Office of Energy Efficiency and Renewable Energy

[DE-PS36-01GO90000]

Innovative Technologies for Conversion of Biomass to Fuels and Chemicals

AGENCY: Golden Field Office, Office of Energy Efficiency and Renewable Energy, Department of Energy (DOE).

ACTION: Notice of request for applications for research and development projects in support of the DOE Biomass Program.

SUMMARY: The Office of Fuels Development is funding a competitive financial assistance program in support of the DOE Biomass Program. Proposals are requested under the Supplemental Announcement Number 04, Innovative Technologies for Conversion of Biomass to Fuels and Chemicals, to the Broad Based Solicitation DE-PS36-01GO90000 that is anticipated to result in the award of several cooperative agreements in Fiscal Year 2001.

DATES: Applications should be submitted as described in the Supplemental Announcement by March 27, 2001.

FOR FURTHER INFORMATION CONTACT: U.S. Department of Energy, Golden Field Office, 1617 Cole Boulevard, Golden, CO 80401-3393. The Project Engineer is Andrew Trenka, FAX (303) 275-4753 or e-mail at andy_trenka@nrel.gov. The Contract Specialist is Andrea Lucero, FAX (303) 275-4788 or e-mail at andrea_lucero@nrel.gov. The Supplemental Announcement can be obtained from the Golden Field Office website at www.golden.doe.gov/businessopportunities.html under “Solicitations.”

SUPPLEMENTARY INFORMATION: Background Information: The Office of Fuels Development of the Department of Energy Office of Energy Efficiency and Renewable Energy (EERE) is supporting the issuance of this Supplemental Announcement to the EERE Broad Based Solicitation for Submission of Financial Assistance Applications Involving Research, Development and Demonstration, DE-PS36-01GO90000. The Broad Based Solicitation contains information that must be used in conjunction with this Supplemental Announcement when applying for an award. Thus, in order to prepare a complete application, it is mandatory to comply with requirements of the overall Broad Based Solicitation document, DE-PS36-01GO90000, found on the DOE Golden Field Office Home Page at http://www.golden.doe.gov/businessopportunities.html under “Solicitations”, as well as with the requirements of this Supplemental Announcement 04 document.

Under this Supplemental Announcement, DOE is soliciting applications to support innovative technologies that will increase the efficiency and/or lower the cost of producing and converting biomass to transportation fuels and chemicals. The three specific areas of interest for this solicitation include the following: pretreatment fundamentals; biomass sugars technologies; and microbial strain development.

Award under this Supplemental Announcement will be Cooperative Agreements with a term of up to 12 months. University-led efforts with participation of industry and other non-federal research organizations are strongly encouraged. A minimum cost share of 20% of the total project cost is required under the Supplemental Announcement. Awards, if any, will result from a merit review process applied to the applications.

The Supplemental Announcement can be obtained from the Golden Field Office website at www.golden.doe.gov/businessopportunities.html under “Solicitations.”

Issued in Golden, Colorado on January 25, 2001.
Jerry L. Zimmer,
Director, Office of Acquisition and Financial Assistance.

[FR Doc. 01-4002 Filed 2-15-01; 8:45 am]

BILLING CODE 6450-01-P